FEDERAL COMMUNICATIONS COMMISSION

47 CFR Part 1

[WC Docket No. 02-269; FCC 02-291]

Federal-State Joint Conference on Accounting Issues

AGENCY: Federal Communications Commission.

ACTION: Final rule.

SUMMARY: In this document the Commission appoints State representatives to the Federal-State Joint Conference on Accounting Issues (Joint Conference). Chairman Michael K. Powell also designates the Honorable Kevin J. Martin as the Chairman of the Joint Conference. The Honorable Michael J. Copps will serve as a participating federal member. The intended effect of this document is to provide a forum for an ongoing dialogue between the Commission and the states in order to ensure that regulatory accounting data and related information filed by carriers are adequate, truthful, and thorough. See 47 U.S.C. 410(b).

FOR FURTHER INFORMATION CONTACT: Joi Roberson Nolen, Wireline Competition Bureau, 202-418-1537.

SUPPLEMENTARY INFORMATION: Pursuant to section 410(b) of the Communications Act of 1934, as amended, 47 U.S.C. 410(b), the Commission appoints the following State representatives to the Joint Conference: the Honorable Nancy Brockway, Commissioner, New Hampshire Public Utilities Commission; the Honorable Terry Deason, Commissioner, Florida Public Service Commission; the Honorable Rebecca A. Klein, Chairman, Texas Public Utility Commission; the Honorable Loretta Lynch, President, California Public Utilities Commission; and the Honorable Diane Munns, Chairman, Iowa Utilities Board. The Honorable Kevin J. Martin is designated to serve as the Chairman of the Joint Conference. The Honorable Michael J. Copps will serve as a participating federal member. Henceforth, a copy of each filing in this proceeding shall be served on each member of the Joint Conference at the addresses listed in appendix A of the Order. Accordingly, it is ordered that, pursuant to section 410(b) of the Communications Act of 1934, as amended, 47 U.S.C. 410(b), this Order is adopted.

List of Subjects in 47 CFR Part 1

Administrative practices and procedures, Communications common carriers.

Federal Communications Commission.
Marlene H. Dortch,
Secretary.

[FR Doc. 02-27977 Filed 11-5-02; 8:45 am]

BILLING CODE 6712-01-P